SMALL BUSINESS ADMINISTRATION

[Disaster Declaration #21290 and #21291; WISCONSIN Disaster Number WI-20004]

Presidential Declaration of a Major Disaster for the State of Wisconsin

AGENCY: U.S. Small Business Administration.

ACTION: Correction.

SUMMARY: This is a correction of the Presidential declaration of a major disaster for the State of Wisconsin (FEMA-4892-DR), dated September 11, 2025.

Incident: Severe Storms, Straight-line Winds, Flooding, and Mudslides.

DATES: Issued on October 29, 2025.

Incident Period: August 9, 2025 through August 12, 2025.

Physical Loan Application Deadline Date: November 12, 2025.

Economic Injury (EIDL) Loan Application Deadline Date: June 11, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for the state of Wisconsin dated September 11, 2025, and published in the Federal Register on September 17, 2025 at 90 FR 44865 in the first column, is hereby corrected to change the physical loan application deadline date to November 12, 2025. Applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties (Physical Damage and Economic Injury Loans): Milwaukee, Washington, Waukesha.

Contiguous Counties (Economic Injury Loans Only):

Wisconsin: Dodge, Fond Du Lac, Jefferson, Ozaukee, Racine, Sheboygan, Walworth.

The Interest Rates are:

| Percent
For Physical Damage:
Homeowners with Credit Available Elsewhere | 6.000
Homeowners without Credit Available Elsewhere | 3.000
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 212906 and for economic injury is 212910.

(Catalog of Federal Domestic Assistance Number 59008)

(Authority: 13 CFR 1234.3(b).)

James Stallings,
Associate Administrator, Office of Disaster Recovery & Resilience.

[FR Doc. 2025-19750 Filed 10-31-25; 8:45 am]

BILLING CODE 8026-09-P